ENVIRONMENTAL PROTECTION AGENCY

[FRL-7428-9]

Proposed Administrative Cashout Deminimis Settlement Under Section 122(g) of the Comprehensive Environmental Response Compensation and Liability Act

AGENCY: Environmental Protection Agency (EPA).

ACTION: Notice; request for public comment for the NL Industries (Taracorp) Site.

SUMMARY: In accordance with section 122(i) of the Comprehensive Environmental Response, Compensation, and Liability Act, as amended (“CERCLA”), 42 U.S.C. 9622(i), notice is hereby given of a proposed administrative settlement for recovery of past and projected future response costs concerning the NL Industries (Taracorp) Site, with the total of 74 settling parties listed in the SUPPLEMENTARY INFORMATION portion of this notice. The settlement requires the settling parties to pay $1,163,125.65 to the Hazardous Substance Superfund.

The total cost of the cleanup is approximately $63 million. This number is the sum of EPA's past costs of approximately $43 million, plus costs incurred by certain potentially responsible parties of approximately $ 20 million. For purposes of settlement, site costs have been allocated approximately 50% to generators and 50% to owner/operators. Since all deminimis parties are generators, the deminimis percentage share of site costs is based on fifty percent of total site costs, or $30 million. Total future site costs were assigned a premium of 20%. Payment amounts for each deminimis generator were calculated by multiplying the generator site cost by each deminimis generator's percentage share of volume contributed to the site.

Under the terms of the settlement, the deminimis generators who sign the Consent Order agree to pay their respective settlement amounts. In exchange for those payments, the United States covenants not to sue or take administrative action pursuant to sections 106 and 107(a) of CERCLA, 42 U.S.C. 9606 and 9607(a), relating to the Site. In addition, participating deminimis generators will be entitled to protection from contribution action or claims as provided by sections 113(f) and 122(g)(5) of CERCLA, 42 U.S.C. 9613(f) and 9622(g)(5), for all response costs incurred and to be incurred by any person at the Site.

For thirty (30) days following the date of publication of this notice, the Agency will accept written comments relating to the settlement. The Agency will consider all comments received and may modify or withdraw its consent to the settlement if comments received disclose facts or considerations which indicate that the settlement is inappropriate, improper, or inadequate. The Agency's response to any comments received will be available for public inspection at EPA's Region 5 Office at 77 West Jackson Boulevard, Chicago, Illinois 60604.

DATES: Comments must be submitted on or before February 18, 2003.

ADDRESSES: The proposed settlement is available for public inspection at EPA's Record Center, 7th floor, 77 W. Jackson Blvd., Chicago, Illinois 60604. A copy of the proposed settlement may be obtained from Larry L. Johnson, Associate Regional Counsel, U.S. EPA, Mail Code C-14J, 77 W. Jackson Blvd., Chicago, Illinois 60604, telephone (312) 886-6609. Comments should reference the NL Industries (Taracorp) Site, and EPA Docket No. 91-00578-JLF, and should be addressed to Larry L. Johnson, Associate Regional Counsel, U.S. EPA, Mail Code C-14J, 77 W. Jackson Blvd., Chicago, Illinois 60604.

FOR FURTHER INFORMATION CONTACT: Larry L. Johnson, Associate Regional Counsel, U.S. EPA, Mail Code C-14J, 77 W. Jackson Blvd., Chicago, Illinois 60604, telephone 312-886-6609.

SUPPLEMENTARY INFORMATION: The following is a list of the settling de minimis generators:

1. 3-H Industries (Now known as Mayfield Manufacturing Company).

2. A. Edelstein & Sons.

3. A.O Smith Corporation.

4. Ace Comb Company.

5. Acme Iron & Metal Co.

6. Acro Sale & Engineering.

7. Allied Metal Company.

8. Amax Inc./Amax Lead & Zinc.

9. American National Can Company.

10. Baker Iron & Metal.

11. Ball Metal & Chemical.

12. Barter Machinery & Supply Company.

13. Bill's Auto Parts.

14. C & D Battery dba/C&D Charter Power c/o Allied Signal , Inc.

15. C.L. Downey Company.

16. CNC Industries, Inc.

17. Cerro Copper Products Co.

18. Chrysler Corporation (Daimler-Chrysler Corporation).

19. Delhi Battery & Supply Co, Inc.

20. Douglas Battery Manufacturing Comp.

21. Dumes, Inc.

22. Elden R. Erikson & Sons, Inc.

23. Electro Battery Manufacturing Co.

24. Farmland Industries.

25. Fisher Steel & Supply Co.

26. G & M Scrap Metal.

27. GSA—General Services Administration.

28. Grossman Iron & Steel Company.

29. Herman Strauss, Inc.

30. Houston Salvage.

31. Industrial Electrical Equipment Co.

32. Intra-American Metals.

33. J. Trockman & Sons.

34. L. Kahn & Sons.

35. La Salle Steel Company.

36. M. Katch.

37. Mc Graw Edison Company.

38. Mallin Brothers Company.

39. Marco Steel Supply.

40. Martin Brothers Mill & Foundry Supply.

41. Miller Compressing Company.

42. Milwaukee Scrap Metal Co.

43. Modine Manufacturing.

44. Northbrook Sports Club.

45. Olin Corporation.

46. Parks Iron & Metal.

47. Peltz Brothers.

48. Pequena Battery Company.

49. Pet, Inc.

50. Plough, Inc.

51. Reeves Scrap Metal.

52. Sam Allen & Son, Inc.

53. School of the Ozarks (Now known as College of the Ozarks).

54. Schuster Metals, Inc.

55. Senser Metal Company.

56. Shapiro Sales Company.

57. Slesnick Iron & Metal.

58. Southwestern Bell Telephone Company.

59. Stewart-Warner Corp.

60. Stewart-Warner Corporation c/o Invensys.

61. Superior Companies, Inc.

62. University of Illinois of Urbana.

63. Vivo Iron & Metal.

64. Wallach Iron & Metal Company.

65. Willoughby Iron & Waste Material Co.

66. Young Radiator Company.

67. United Technologies Corporation.

68. Parkans International, Inc.

69. Sherwin-Williams.

70. Marchem Resources, Inc.

71. Rankin Technical Institute.

72. Crown Cork & Seal Corporation.

73. Centritech Corporation.

74. Milford Rivet & Machine Company.

Dated: January 7, 2003.
Thomas V. Skinner,
Regional Administrator, Region 5.

[FR Doc. 03-968 Filed 1-15-03; 8:45 am]

BILLING CODE 6560-50-P